SMALL BUSINESS ADMINISTRATION

[Disaster Declaration #20496 and #20497; IOWA Disaster Number IA-20009]

Presidential Declaration Amendment of a Major Disaster for Public Assistance Only for the State of Iowa

AGENCY: U.S. Small Business Administration.

ACTION: Amendment 3.

SUMMARY: This is an amendment of the Presidential declaration of a major disaster for Public Assistance Only for the State of Iowa (FEMA-4796-DR), dated 07/24/2024.

Incident: Severe Storms, Flooding, Straight-line Winds, and Tornadoes.

Incident Period: 06/16/2024 through 07/23/2024.

DATES: Issued on 08/09/2024.

Physical Loan Application Deadline Date: 09/23/2024.

Economic Injury (EIDL) Loan Application Deadline Date: 04/24/2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for Private Non-Profit organizations in the State of Iowa, dated 07/24/2024, is hereby amended to include the following areas as adversely affected by the disaster.

Primary Counties: Des Moines, Emmet, Floyd, Howard, Kossuth, Mitchell, Pottawattamie.

All other information in the original declaration remains unchanged.

(Catalog of Federal Domestic Assistance Number 59008)

Rafaela Monchek,
Acting Associate Administrator, Office of Disaster Recovery & Resilience.

[FR Doc. 2024-18441 Filed 8-15-24; 8:45 am]

BILLING CODE 8026-09-P